DEPARTMENT OF TRANSPORTATION

Federal Aviation Administration

14 CFR Part 71

[Docket No. FAA-2002-13994; Airspace Docket No. 02-AAL-10]

RIN 2120-AA66

Establishment of Colored Federal Airways; AK

AGENCY: Federal Aviation Administration (FAA), DOT.

ACTION: Final rule.

SUMMARY: This action establishes two colored Federal airways, Amber-5 (A-5) and Blue 1 (B-1), in Alaska. This action adds to the instrument flight rules (IFR) airway and route structure in Alaska. The FAA is taking this action to enhance safety and the management of aircraft operations in Alaska.

EFFECTIVE DATE: 0901 UTC, December 22, 2005.

FOR FURTHER INFORMATION CONTACT: Ken McElroy, Airspace and Rules, Office of System Operations Airspace and AIM, Federal Aviation Administration, 800 Independence Avenue, SW., Washington, DC 20591; telephone: (202) 267-8783.

SUPPLEMENTARY INFORMATION:

History

On January 30, 2003, the FAA published in the Federal Register a notice of proposed rulemaking to establish Colored Federal Airways (68 FR 4741). Interested parties were invited to participate in this rulemaking effort by submitting written comments on the proposal. No comments were received. With the exception of editorial changes, this amendment is the same as that proposed in the notice.

Colored Federal airways are published in paragraph 6009 of FAA Order 7400.9N dated September 1, 2005, and effective September 15, 2005, which is incorporated by reference in 14 CFR 71.1. The colored Federal airways listed in this document would be published subsequently in the order.

The Rule

This action amends Title 14 Code of Federal Regulations (14 CFR) part 71 by establishing two colored Federal airways, A-5 and B-1, in Alaska. Presently there are several uncharted non-regulatory routes that use the same routing as the new colored Federal airways. These uncharted non-regulatory routes are used daily by commercial and general aviation aircraft. However, the air traffic control (ATC) management of aircraft operations is limited on these routes. The FAA is converting these uncharted non-regulatory routes to the colored Federal airways. This action adds to the IFR airway and route structure in Alaska.

Additionally, adoption of these Federal airways: (1) Provide pilots with minimum en route altitudes and minimum obstruction clearance altitudes information; (2) establishes controlled airspace thus eliminating some of the commercial IFR operations in uncontrolled airspace; and (3) improves the management of air traffic operations and thereby enhances safety.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND CLASS E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the FAA Order 7400.9N, Airspace Designations and Reporting Points, dated September 1, 2005, and effective September 15, 2005, is amended as follows:

Paragraph 6009(c)—Amber Federal Airways.

* * * * *

A-5 [New]

From Ambler, AK, NDB to Evansville, AK, NDB.

* * * * *

Paragraph 6009(d)—Blue Federal Airways.

* * * * *

B-1 [New]

From Woody Island, AK, NDB to Iliamna, AK, NDB.

* * * * *

Issued in Washington, DC, on October 6, 2005.
Edith V. Parish,
Acting Manager, Airspace and Rules.

[FR Doc. 05-20630 Filed 10-13-05; 8:45 am]

BILLING CODE 4910-13-P